DEPARTMENT OF TRANSPORTATION

Federal Aviation Administration

14 CFR Part 39

[Docket No. FAA-2008-0834; Directorate Identifier 2007-SW-78-AD; Amendment 39-15746; AD 2008-24-06]

RIN 2120-AA64

Airworthiness Directives; Agusta S.p.A. Model A109A and A109A II Helicopters

AGENCY: Federal Aviation Administration (FAA), Department of Transportation (DOT).

ACTION: Final rule.

SUMMARY: This amendment supersedes an existing airworthiness directive (AD) for the specified Agusta S.p.A. (Agusta) model helicopters. This AD results from a revised mandatory continuing airworthiness information (MCAI) issued by an aviation authority to identify and correct an unsafe condition on an aviation product. The aviation authority of Italy, with which we have a bilateral agreement, reports that the previous MCAI should not apply to newly redesigned and improved tail rotor blades. This AD requires the same inspections as the current AD but limits the applicability to only three part-numbered tail rotor blades. This AD requires actions that are intended to prevent fatigue failure of a tail rotor blade (blade), loss of a tail rotor, and subsequent loss of control of the helicopter.

DATES: This AD becomes effective on December 30, 2008.

The incorporation by reference of certain publications is approved by the Director of the Federal Register as of December 30, 2008.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining the AD Docket: The AD docket contains the notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Discussion

We issued an NPRM on July 27, 2008 to amend 14 CFR part 39 to include a superseding AD that would apply to the specified Agusta model helicopters. That NPRM was published in the Federal Register on August 6, 2008 (73 FR 45644) and proposed the same inspection requirements as the current AD. It also proposed to limit the applicability to only three part-numbered tail rotor blades.

You may obtain further information by examining the MCAI and any related service information in the AD docket.

Comments

By publishing the NPRM, we gave the public an opportunity to participate in developing this AD. However, we received no comment on the NPRM or on our determination of the cost to the public. Therefore, based on our review and evaluation of the available data, we have determined that air safety and the public interest require adopting the AD as proposed.

Relevant Service Information

Agusta has issued Bollettino Tecnico No. 109-110, Revision A, dated December 12, 2005 (BT). The actions described in the MCAI are intended to correct the same unsafe condition as that identified in the service information.

Differences Between This AD and the MCAI

The MCAI states to comply with the manufacturer's BT. This AD differs from the incorporated portions of the BT as follows:

(1) We refer to the compliance time as hours time-in-service rather than flight hours.

(2) We do not require you to contact the manufacturer.

Costs of Compliance

We estimate that this AD will affect about 40 helicopters of U.S. registry. We also estimate that it will take about 2.5 work-hours to inspect the affected blades of each helicopter at an average labor rate of $80 per work-hour. The cost of performing the daily magnifying glass visual inspection is negligible. Based on these figures, we estimate the cost of this AD on U.S. operators to be $48,000, assuming 6 dye-penetrant inspections a year, negligible costs for the magnifying glass inspection, and no cracked blades are found.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-24-06 Agusta S.p.A. Amendment 39-15746; Docket No. FAA-2008-0834; Directorate Identifier 2008-SW-78-AD.

Effective Date

(a) This airworthiness directive (AD) becomes effective on December 30, 2008.

Other Affected ADs

(b) This AD supersedes AD 99-27-12, Amendment 39-11493, Docket No. 99-SW-91-AD (65 FR 346, January 5, 2000).

Applicability

(c) This AD applies to Model A109A and A109A II helicopters, with a tail rotor blade (blade), part number (P/N) 109-0132-02-11, -15, and -121, with 400 or more hours time-in-service (TIS), installed, certificated in any category.

Reason

(d) Based on the Italian mandatory continued airworthiness information (MCAI) AD, this action contains the same requirement as superseded AD 99-27-12 but narrows the applicability from blade, P/N “109-0132-02-all dash numbers,” to specific P/Ns “109-0132-02-11, -15, and -121.” Thus, this action does not apply to blades with any other P/N, including newly designated blade, P/N 109-0132-02-125. The actions specified by this AD are intended to continue the requirements to prevent fatigue failure of a blade, loss of a tail rotor, and subsequent loss of control of the helicopter.

Actions and Compliance

(e) Required as indicated; unless already done, do the following actions:

(1) Before further flight, dye-penetrant inspect each blade for a crack by following the Compliance Instructions, Part I, of Agusta S.p.A. Bollettino Tecnico No. 109-110, Revision A, dated December 12, 2005 (BT). Thereafter, at intervals not to exceed 100 hours TIS, dye-penetrant inspect each blade for a crack by following the Compliance Instructions, Part III, of the BT. If you find a crack, replace the cracked blade with an airworthy blade before further flight.

(2) Before the first flight each day, visually inspect each blade for a crack using a 3 to 5 power magnifying glass by following the Compliance Instructions, Part II, of the BT. If you find a crack, replace the cracked blade with an airworthy blade before further flight.

Differences Between This AD and the MCAI

(f) The MCAI states to comply with the manufacturer's BT. This AD differs from the incorporated portions of the BT as follows:

(1) We refer to the compliance time as hours TIS rather than flight hours.

(2) We do not require you to contact the manufacturer.

Other Information

(g) Alternative Methods of Compliance (AMOCs): The Manager, Safety Management Group, Rotorcraft Directorate, FAA, has the authority to approve AMOCs for this AD, if requested using the procedures found in 14 CFR 39.19. Send information to ATTN: Sharon Miles, Aviation Safety Engineer, Regulations and Guidance Group, Fort Worth, Texas 76193-0111, telephone (817) 222-5122, fax (817) 222-5961.

Related Information

(h) Mandatory Continuing Airworthiness Information (MCAI) ENAC AD No. 2006-001, Revision 1, dated January 3, 2006, contains related information.

Air Transport Association of America (ATA) Tracking Code

(i) Air Transport Association of America (ATA) Code 6410: Main Rotor Blades.

Material Incorporated by Reference

(j) You must use the specified portions of Agusta S.p.A. Bollettino Tecnico No. 109-110, Revision A, dated December 12, 2005, to do the actions required.

(1) The Director of the Federal Register approved the incorporation by reference of this service information under 5 U.S.C. 552(a) and 1 CFR part 51.

(2) For service information identified in this AD, contact Agusta, Via Giovanni Agusta, 520 21017 Cascina Costa di Samarate (VA), Italy, telephone 39 0331-229111, fax 39 0331-229605/222595, or at http://customersupport.agusta.com/technical_advice.php.

(3) You may review copies at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas, on November 7, 2008.
Mark R. Schilling,
Acting Manager, Rotorcraft Directorate, Aircraft Certification Service.

[FR Doc. E8-27611 Filed 11-24-08; 8:45 am]

BILLING CODE 4910-13-P